NATIONAL LABOR RELATIONS BOARD

Sunshine Act Meetings

TIME AND DATES: All meetings are held at 2:30 p.m.

Tuesday, March 1;

Wednesday, March 2;

Thursday, March 3;

Tuesday, March 8;

Wednesday, March 9;

Thursday, March 10;

Tuesday, March 15;

Wednesday, March 16;

Thursday, March 17;

Tuesday, March 22;

Wednesday, March 23;

Thursday, March 24;

Tuesday, March 29;

Wednesday, March 30;

Thursday, March 31.

PLACE: Board Agenda Room, No. 11820, 1099 14th St., NW., Washington, DC 20570.

Status: Closed.

Matters To Be Considered: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Henry S. Breiteneicher, Associate Executive Secretary, (202) 273-2917.

Dated: March 2, 2011.
Henry S. Breiteneicher,
Associate Executive Secretary.

[FR Doc. 2011-5083 Filed 3-2-11; 4:15 pm]

BILLING CODE 7545-01-P